DEPARTMENT OF JUSTICE

Notice of Lodging of Proposed Consent Decree Under the Oil Pollution Act

On June 3, 2024, the Department of Justice lodged a proposed Consent Decree with the United States District Court for the Eastern District of Arkansas in the lawsuit entitled United States and the Arkansas Game and Fish Commission and the Arkansas Department of Energy and Environment, Division of Environmental Quality, as Agencies of the State of Arkansas v. ExxonMobil Pipeline Company LLC, et al., Case No. 4:24-cv-473-KGB.

The United States and the State of Arkansas filed a joint complaint in this action asserting claims under section 1002(a) and (b)(2)(A) of the Oil Pollution Act of 1990 (“OPA”), 33 U.S.C. 2702(a) and (b)(2)(A), and under State law, against ExxonMobil Pipeline Company LLC and Mobil Pipe Line Company seeking damages for injury to, destruction of, loss of, or loss of use of, natural resources, resulting from the March 29, 2013, discharge of oil from the Pegasus Pipeline into the environment in and around Mayflower, Faulkner County, Arkansas, that migrated to waters, wetlands, and ultimately to Lake Conway. The spill caused impacts to vegetation and sediments, as well to wildlife that were exposed to oil, and the loss of recreational use of Lake Conway. Federal and State natural resource trustees assessed the injuries.

Plaintiffs and Defendants negotiated a Consent Decree that resolves the claims in the complaint. The proposed Consent Decree provides for a total cash payment by Settling Defendants of $1,755,082. Of this total, Settling Defendants will pay $1,300,000 to the Federal and State trustees for use in planning and performing restoration projects to redress the injuries and loss from the spill, $115,000 to the Federal and State trustees ($75,000 and $40,000 respectively) for future oversight costs, and $340,082 to reimburse the State trustees for past assessment costs.

The publication of this notice opens a period for public comment on the proposed Consent Decree. Comments should be addressed to the Assistant Attorney General, Environment and Natural Resources Division, and should refer to United States and State of Arkansas v. ExxonMobil Pipeline Company LLC, et al., Case No. 4:24-cv-473-KGB, D.J. Ref. No. 90-5-1-1-10862/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter. During the public comment period, the Consent Decree may be examined and downloaded at this Justice Department website: https://www.justice.gov/enrd/consent-decrees. If you require assistance accessing the Agreement and Order, you may request assistance by email or by mail to the addresses provided above for submitting comments.

Thomas Carroll,
Assistant Section Chief, Environmental Enforcement Section, Environment and Natural Resources Division.

[FR Doc. 2024-12580 Filed 6-7-24; 8:45 am]

BILLING CODE 4410-15-P